DEPARTMENT OF COMMERCE

International Trade Administration

[A-428-825]

Stainless Steel Sheet and Strip in Coils From Germany; Final Results of Changed Circumstances Review

AGENCY: Import Administration, International Trade Administration, Department of Commerce.

ACTION: Notice of final results of changed circumstances review, and revocation, in part, of order of the antidumping duty order.

SUMMARY: On August 17, 2001, the Department of Commerce (the Department) published a notice of initiation and preliminary results of a changed circumstances review and notice of intent to revoke in part the antidumping duty order on stainless steel sheet and strip in coils from Germany. See Stainless Steel Sheet and Strip in Coils From Germany; Initiation and Preliminary Results of Changed Circumstances Antidumping Duty Administrative Review, 66 FR 43183 (August 17, 2001) (Preliminary Results). This notice concerned the specialty stainless steel strip product known as Semi Vac 90, described in the “Scope of Changed Circumstances Review” section, below. We gave interested parties an opportunity to comment on our preliminary results; no party submitted comments on these preliminary results. We are hereby revoking the order in part because domestic producers of the like product have expressed no interest in continuation of the order with respect to this particular stainless steel product.

EFFECTIVE DATE: October 2, 2001.

FOR FURTHER INFORMATION CONTACT: Robert M. James, Import Administration, International Trade Administration, U.S. Department of Commerce, 14th Street and Constitution Avenue, NW., Washington, DC 20230; telephone: (202) 482-0649.

THE APPLICABLE STATUTE AND REGULATIONS: Unless otherwise indicated, all citations to the statute are references to the provisions effective January 1, 1995, the effective date of the amendments made to the Tariff Act of 1930, as amended (the Tariff Act), by the Uruguay Round Agreements Act. In addition, unless otherwise indicated, all citations to the Department's regulations are to the regulations as codified at 19 CFR part 351 (2000).

SUPPLEMENTARY INFORMATION:

Background

The Department published the antidumping duty order on stainless steel sheet and strip in coils from Germany on July 27, 1999. See Notice of Amended Final Determination of Sales at Less Than Fair Value and Antidumping Duty Order, 64 FR 40557. On May 18, 2001, Sensormatic Electronics Corporation (Sensormatic) requested that the Department determine that a specialty stainless steel strip product known as SemiVac 90 is outside the scope of the antidumping duty order on stainless steel sheet and strip in coils from Germany; in the alternative, Sensormatic requested that the Department revoke in part the antidumping duty order on stainless steel sheet and strip in coils from Germany on the basis of “changed circumstances.” See Letter from Sandler, Travis & Rosenberg, P.A., May 18, 2001, at 2 and 4. On July 5, 2001, producers of the domestic like product (Allegheny Ludlum Corporation, Armco, Inc., J&L Specialty Steel, Inc., Washington Steel Division of Bethlehem Steel Corporation, United Steelworkers of America, AFL-CIO/CLC, Butler Armco Independent Union, and Zanesville Armco Independent Organization) informed the Department that, consistent with the position stated during the less-than-fair-value investigation, they have no objection to Sensormatic's request. See Letter from Collier Shannon Scott, July 5, 2001.

As noted, our August 17, 2001 Preliminary Results elicited no comment from any interested party.

Scope of Changed Circumstances Review

The product subject to this changed circumstances review is a permanent magnet iron-chromium-cobalt stainless steel strip containing, by weight, 13 percent chromium, 6 percent cobalt, 71 percent iron, 6 percent nickel and 4 percent molybdenum. The product is supplied in widths up to 1.27 cm (12.7 mm), inclusive, with a thickness between 45 and 75 microns, inclusive. This product exhibits magnetic remanence between 400 and 780 nWb, and coercivity of between 60 and 100 oersteds. This product is currently supplied under the trade name “SemiVac 90.”

Final Results of Review, and Revocation in Part of the Antidumping Duty Order

Pursuant to sections 751(d)(1) and 782(h)(2) of the Tariff Act, the Department may revoke an antidumping or countervailing duty order, in whole or in part, based on a review under section 751(b) of the Tariff Act (i.e., a changed circumstances review) where the Department determines that producers accounting for substantially all of the production of that domestic like product have expressed a lack of interest in continuance of an order. Similarly, section 351.222(g) of the Department's regulations provides that the Department will conduct a changed circumstances administrative review under 19 CFR 351.216, and may revoke an order (in whole or in part), if it determines that producers accounting for substantially all of the production of the domestic like product to which the order pertains have expressed a lack of interest in the relief provided by the order, in whole or in part, or if other changed circumstances sufficient to warrant revocation exist.

The affirmative statement by the domestic producers expressing no opposition to excluding Semi Vac 90 from the scope of the order constitutes changed circumstances sufficient to warrant partial revocation of this order. In addition, these producers, the original petitioners in this case, account for substantially all of the production of the domestic like product. Therefore, in accordance with sections 751(b) and (d) and 782(h)(2) of the Tariff Act, and 19 CFR 351.216(d), the Department is revoking the order in part as it pertains to the permanent magnet iron-chromium-cobalt stainless steel strip product known as SemiVac 90 described above. We will instruct the U.S. Customs Service to liquidate without regard to antidumping duties, as applicable, all unliquidated entries of this specialty stainless product not subject to final results of an administrative review, as of the date of publication of these final results of review in the Federal Register. See 19 CFR 351.222. We will also direct the Customs Service to refund any estimated antidumping duties collected, and to pay interest on such refunds in accordance with section 778 of the Tariff Act. Finally, we will instruct the Customs Service to discontinue the suspension of liquidation and the collection of cash deposits on entries of Semi Vac 90 effective on the date of publication of this notice.

This changed circumstances review and revocation in part, and this notice, are published in accordance with sections 751(b) and (d) and 782(h) of the Tariff Act, and 19 CFR 351.216 and 351.222(g).

Dated: September 20, 2001.
Faryar Shirzad,
Assistant Secretary for Import Administration.

[FR Doc. 01-24620 Filed 10-1-01; 8:45 am]

BILLING CODE 3510-DS-P